CONSUMER PRODUCT SAFETY COMMISSION

[Docket No. CPSC-2010-0041]

Collection of Information; Proposed Extension of Approval; Comment Request—Publicly Available Consumer Product Safety Information Database

AGENCY: Consumer Product Safety Commission.

ACTION: Notice.

SUMMARY: As required by the Paperwork Reduction Act of 1995 (PRA), the Consumer Product Safety Commission (CPSC) requests comments on a proposed extension of approval of a collection of information for the Publicly Available Consumer Product Safety Information Database. The CPSC will consider all comments received in response to this notice before requesting an extension of approval of this collection of information from the Office of Management and Budget (OMB).

DATES: Submit written or electronic comments on the collection of information by December 9, 2019.

ADDRESSES: You may submit comments, identified by Docket No. CPSC-2010-0041, by any of the following methods:

Electronic Submissions: Submit electronic comments to the Federal eRulemaking Portal at: http://www.regulations.gov. Follow the instructions for submitting comments. CPSC does not accept comments submitted by electronic mail (email), except through www.regulations.gov. CPSC encourages you to submit electronic comments by using the Federal eRulemaking Portal, as described above.

Written Submissions: Submit written submissions in the following way: Mail/Hand delivery/Courier (for paper, disk, or CD-ROM submissions) to: Division of the Secretariat, Consumer Product Safety Commission, Room 820, 4330 East West Highway, Bethesda, MD 20814; telephone (301) 504-7923.

Instructions: All submissions received must include the agency name and docket number for this proposed rulemaking. All comments received may be posted without change, including any personal identifiers, contact information, or other personal information provided, to: http://www.regulations.gov. Do not submit electronically any confidential business information, trade secret information, or other sensitive or protected information that you do not want to be available to the public. If you wish to provide such information, please submit it in writing.

Docket: For access to the docket to read background documents or comments received, go to: http://www.regulations.gov, and insert the docket number, CPSC-2010-0041, into the “Search” box, and follow the prompts. A copy of the supporting statement will be made available under Supporting and Related Materials.

FOR FURTHER INFORMATION CONTACT: For further information, or a copy of the supporting statement, contact: Bretford Griffin, Consumer Product Safety Commission, 4330 East West Highway, Bethesda, MD 20814; (301) 504-7037, or by email to: bgriffin@cpsc.gov.

SUPPLEMENTARY INFORMATION:

A. Background

Section 212 of the Consumer Product Safety Improvement Act of 2008 (CPSIA) added section 6A to the Consumer Product Safety Act (CPSA), which requires the CPSC to establish and maintain a publicly available, searchable database (Database) on the safety of consumer products and other products or substances regulated by the CPSC. Among other things, section 6A of the CPSA requires the CPSC to collect reports of harm from the public for potential publication in the publicly available Database, and to collect and publish comments from manufacturers about reports of harm.

The CPSC announced that a proposed collection of information in conjunction with the Database, called the Publicly Available Consumer Product Safety Information Database, had been submitted to OMB for review and clearance under 44 U.S.C. 3501-3520 in a proposed rule published on May 24, 2010 (75 FR 29156). The CPSC issued a final rule on the Database on December 9, 2010 (75 FR 76832). The final rule interprets various statutory requirements in section 6A of the CPSA pertaining to the information to be included in the Database; and the final rule also establishes provisions regarding submitting reports of harm; providing notice of reports of harm to manufacturers; publishing reports of harm and manufacturer comments in the Database; and dealing with confidential and materially inaccurate information.

OMB approved the collection of information for the Database under control number 3041-0146. OMB's most recent extension of approval on January 31, 2017, will expire on January 31, 2020. Accordingly, the CPSC now proposes to request an extension of approval of this collection of information.

B. Information Collected Through the Database

The primary purpose of this information collection is to populate the publicly searchable Database of consumer product safety information mandated by section 6A of the CPSA. The Database information collection has four components: reports of harm, manufacturer comments, branding information, and the Small Batch Manufacturer Registry (SBMR).

Reports of Harm: Reports of harm communicate information regarding an injury, illness, or death, or any risk (as determined by CPSC) of injury, illness, or death, relating to the use of a consumer product. Reports can be submitted to the CPSC by consumers; local, state, or federal government agencies; health care professionals; child service providers; public safety entities; and others. Reports may be submitted in one of three ways: via the CPSC website (www.SaferProducts.gov), by telephone via a CPSC call center, or by email, fax, or mail using the incident report form (available for download or printing via the CPSC website). Reports may also originate as a free-form letter or email. Submitters must consent to including their report of harm in the publicly searchable Database.

Manufacturer Comments: A manufacturer or private labeler may submit a comment related to a report of harm after the CPSC transmits the report to the manufacturer or private labeler identified in the report. Manufacturer comments may be submitted through the business portal, by email, mail, or fax. The business portal is a feature of the Database that allows manufacturers who register on the business portal to receive reports of harm and comment on such reports through the business portal. Use of the business portal expedites the receipt of reports of harm and business response times.

A manufacturer may request that the CPSC designate information in a report of harm as confidential. Such a request may be made using the business portal, by email, by mail, or by fax. Additionally, any person or entity reviewing a report of harm or manufacturer comment, either before or after publication in the Database, may request that the report or comment, or portions of the report or comment, be excluded from the Database because it contains materially inaccurate information. Such a request may be made by manufacturers using the business portal, by email, mail or fax, and may be submitted by anyone else by email, mail, or fax.

Branding Information: Using the business portal, registered businesses may voluntarily submit branding information to assist CPSC in correctly and timely routing reports of harm involving their products to them. Brand names may be licensed to another entity for use in labeling consumer products manufactured by that entity. CPSC's understanding of licensing arrangements for consumer products ensures that the correct manufacturer is timely notified regarding a report of harm.

Small Batch Manufacturers Registry: The business portal also contains the SBMR, which is the online mechanism by which “small batch manufacturers” (as defined in the CPSA) can identify themselves to obtain relief from certain third party testing requirements for children's products. To register as a small batch manufacturer, a business must attest that the company's income level, and the number of units of the covered product manufactured for which relief is sought, both fall within the statutory limits to receive relief from third party testing.

C. Estimated Burden

1. Estimated Annual Burden for Respondents

We estimate the burden of this collection of information as follows:

Table 1—Estimated Annual Reporting Burden for Reports of Harm
Collection type | Number of respondents | Response frequency ¹ | Total annual responses | Minutes per response | Total burden, in hours ²
Reports of Harm—submitted through website | 5,646 | 1.07 | 6,023 | 12 | 1,205
Reports of Harm—submitted by phone | 1,397 | 1.02 | 1,418 | 10 | 236
Reports of Harm—submitted by mail, email, fax | 349 | 43.88 | 15,314 | 20 | 5,105
Total | 7,392 |  | 22,755 |  | 6,546

Table 2—Estimated Annual Reporting Burden for Manufacturer Submissions
Collection type | Number of respondents | Response frequency ¹ | Total annual responses | Minutes per response | Total burden, in hours ²
Manufacturer Comments—submitted through website | 2,311 | 1.06 | 2,461 | 117 | 4,799
Manufacturer Comments—submitted by mail, email, fax | 182 | 1.90 | 346 | 147 | 848
Requests to Treat Information as Confidential—submitted through website | 2 | 1.00 | 2 | 42 | 1
Requests to Treat Information as Confidential—submitted by mail, email, fax | 0 | n/a | 0 | 72 | 0
Requests to Treat Information as Materially Inaccurate—submitted through website | 141 | 1.19 | 168 | 165 | 462
Requests to Treat Information as Materially Inaccurate—submitted by mail, email, fax | 25 | 1.12 | 28 | 195 | 91
Voluntary Brand Identification | 932 | 1.37 | 1,281 | 10 | 214
Small Batch Manufacturer Identification | 2,292 | 1 | 2,292 | 10 | 382
Total | 5,885 |  | 6,578 |  | 6,797

Based on the data set forth in Tables 1 and 2 above, the annual reporting cost is estimated to be $691,884. This estimate is based on the sum of two estimated total figures for reports of harm and manufacturer submissions. The estimated number of respondents and responses are based on the actual responses received in FY 2018. We assume that the number of responses and respondents will be similar in future years.

¹ Frequency of responses is calculated by dividing the number of responses by the number of respondents.

² Numbers have been rounded.

Reports of Harm: Table 1 sets forth the data used to estimate the burden associated with submitting reports of harm. We had previously estimated the time associated with the electronic and telephone submission of reports of harm at 12 and 10 minutes, respectively; and because we have had no indication that these estimates are not appropriate or accurate, we used those figures for present purposes as well. We estimate that the time associated with a paper or PDF form would be 20 minutes, on average.

To estimate the costs for submitting reports of harm, we multiplied the estimated total burden hours associated with reports of harm (1,205 hours + 236 hours + 5,105 hours = 6,546 hours) by an estimated total compensation for all workers in private industry of $34.05 per hour,³ which results in an estimated cost of $222,891 (6,546 hours × $34.05 per hour = $222,891).

³ U.S. Department of Labor, Bureau of Labor Statistics, Table 9 of the Employer Costs for Employee Compensation (ECEC), Private Industry, goods-producing and service-providing industries, by occupational group, Dec 2018 (data extracted on 8/2/2019 from: http://www.bls.gov/news.release/ecec.t09.htm.

Manufacturer Submissions: Table 2 sets forth the data used to estimate the burden associated with manufacturers' submissions to the Database. We observed that a large percentage of the general comments come from a few businesses, and we assumed that the experience of a business that submits many comments each year would be different from one that submits only a few. Accordingly, we divided all responding businesses into three groups based on the number of general comments submitted in FY 2018, and then we selected several businesses to contact from each group. The first group contacted consisted of businesses that submitted 50 or more comments in FY 2018, accounting for 31 percent of all general comments received. The second group contacted included businesses that submitted 6 to 49 comments, accounting for 39 percent of all general comments received. The last group contacted included businesses that submitted no more than 5 comments, accounting for 30 percent of all general comments received. We asked each company how long it typically takes to research, compose, and enter a comment or a claim of materially inaccurate information.

To estimate the burden associated with submitting a general comment regarding a report of harm through the business portal, we averaged the burden provided by each company within each group, and then we calculated a weighted average from the three groups, weighting each group by the proportion of comments received from that group. We found that the average time to submit a general comment regarding a report of harm is 117 minutes, based on the data in Table 3 (((15 minutes + 45 minutes + 30 minutes + 15 minutes)/4 companies)*.31 + ((105 minutes + 45 minutes + 150 minutes + 15 minutes)/4 companies)*.39 + ((240 minutes + 60 minutes + 480 minutes)/3 companies)*.30 = 117 minutes).

Table 3—Estimated Burden to Enter a General Comment in the Database
Group | Company | General Comments
Group 1 (> = 50 comments) | Company A Company B Company C Company D | 15 minutes. 45 minutes. 30 minutes. 15 minutes.
Group 2 (6-49 comments) | Company A Company B Company C Company D | 105 minutes. 45 minutes. 150 minutes. 15 minutes.
Group 3 (> = 5 comments) | Company A Company B Company C | 240 minutes. 60 minutes. 480 minutes.

Registered businesses generally submit comments through our website. Unregistered businesses submit comments by mail, email, or fax. We estimate that submitting comments via mail, email, or fax takes a little longer because often, we must ask businesses to amend their submissions to include the required certifications. Thus, we estimated that, on average, comments submitted by mail, email, or fax take 30 minutes longer than comments submitted through our website (117 minutes + 30 minutes = 147 minutes).

The submission of a claim of materially inaccurate information is a relatively rare event for all respondents, so we averaged all responses together. Eight of the businesses contacted had submitted claims of materially inaccurate information. We found that the average time to submit a claim that a report of harm contains a material inaccuracy is 165 minutes ((30 minutes + 90 minutes + 45 minutes + 90 minutes + 60 minutes + 660 minutes + 45 minutes + 300 minutes)/8 companies = 165 minutes).

Registered businesses generally submit claims through the business portal. Unregistered businesses submit claims by mail, email, or fax. We estimate that submitting claims via mail, email, or fax takes a little longer because often, we must ask businesses to amend their submission to include the required certifications. Thus, we estimated that, on average, claims submitted by mail, email, or fax take 30 minutes longer than those submitted through our website (165 minutes + 30 minutes = 195 minutes).

The submission of a claim of confidential information is a relatively rare event for all respondents, so we averaged all responses together. Five of the businesses contacted had submitted claims of confidential information. We found that the average time to submit a claim that a report of harm contains confidential information is 42 minutes ((45 minutes + 15 minutes + 60 minutes + 30 minutes + 60 minutes)/5 companies = 42 minutes).

Registered businesses generally submit confidential information claims through the business portal. Unregistered businesses submit confidential information claims by mail, email, or fax. We estimate that submitting claims by mail, email, or fax takes a little longer because often, we must ask businesses to amend their submission to include the required certifications. Thus, we estimate that a confidential information claim submitted by mail, email, or fax would take 30 minutes longer than those submitted through our website (42 minutes + 30 minutes = 72 minutes).

For voluntary brand identification, we estimate that a response would take 10 minutes, on average. Most responses consist only of the brand name and a product description. In many cases, a business will submit multiple entries in a brief period of time, and we can see from the date and time stamps on these records that an entry often takes less than 2 minutes. CPSC staff enters the same data in a similar form, based on our own research, and that experience was also factored into our estimate.

For small batch manufacturer identification, we estimate that a response would take 10 minutes, on average. The form consists of three check boxes and the information should be readily accessible to the respondent.

The responses summarized in Table 2 are generally submitted by manufacturers. To avoid underestimating the cost associated with the collection of this data, we assigned the higher hourly wage associated with a manager or professional in goods-producing industries to these tasks. To estimate the cost of manufacturer submissions, we multiplied the estimated total burden hours in Table 2 (6,797 hours), by an estimated total compensation for a manager or professional in goods-producing industries of $69.00 per hour,⁴ which results in an estimated cost of $468,993 (6,797 hours × $69.00 per hour = $468,993).

⁴ U.S. Department of Labor, Bureau of Labor Statistics, Table 9 of the Employer Costs for Employee Compensation (ECEC), Private Industry, goods-producing and service-providing industries, by occupational group, December 2018 (data extracted on 09/13/2019 from: http://www.bls.gov/news.release/ecec.t09.htm.

Therefore, the total estimated annual cost to respondents is $691,884 ($222,891 burden for reports of harm + $468,993 burden for manufacturer submissions = $691,884).

2. Estimated Annual Burden on Government

We estimate the annualized cost to the CPSC to be $982,166. This figure is based on the costs for four categories of work for the Database: Reports of Harm, Materially Inaccurate Information Claims, Manufacturer Comments, and Small Batch Identification. Each category is described below. No government cost is associated with voluntary brand identification because this information is entered directly into the Database by the manufacturer with no processing required by the government. The information assists the government in directing reports of harm to the correct manufacturer. We did not attempt to calculate separately the government cost for claims of confidential information because the number of claims is so small. The time to process these claims is included with claims of materially inaccurate information.

Reports of Harm: The Reports of Harm category includes many different tasks. Some costs related to this category are from two data entry contracts. Tasks related to these contracts include clerical coding of the report, such as identifying the type of consumer product reported and the appropriate associated hazard, as well as performing quality control on the data in the report. Contractor A spends an estimated 5,267 hours per year performing these tasks. With an hourly rate of $38.10 for contractor services, the annual cost to the government of contract A is $200,673. Contractor B spends an estimated 2,029 hours per year performing these tasks. With an hourly rate of $41.33 for contractor services, the annual cost to the government of contract B is $83,859.

The Reports of Harm category also includes sending consent requests for reports when necessary, processing that consent when received, determining whether a product is out of CPSC's jurisdiction, and confirming that pictures and attachments do not have any personally identifiable information. The Reports of Harm category also entails notifying manufacturers when one of their products is reported, completing a risk of harm determination form for every report eligible for publication, referring some reports to a Subject Matter Expert (SME) within the CPSC for a determination on whether the reports meet the requirement of having a risk of harm, and determining whether a report meets all the statutory and regulatory requirements for publication. Detailed costs are:

Table 4—Estimated Costs for Reports of Harm Task
Grade level | Number of hours (annual) | Total compensation per hour | Total annual cost
Contract A | 5,267 | $38.10 | $200,673
Contract B | 2,029 | 41.33 | 83,859
7 | 200 | 37.37 | 7,474
9 | 300 | 45.72 | 13,716
12 | 5,528 | 66.31 | 366,562
13 | 428 | 78.84 | 33,744
14 | 1,068 | 93.18 | 99,516
Total | 14,820 |  | 825,544

Materially Inaccurate Information (MII) Claims: The MII claims category includes reviewing and responding to claims, participating in meetings where the claims are discussed, and completing a risk of harm determination on reports when a company alleges that a report does not describe a risk of harm.

Table 5—Estimated Costs for MII Claims Task
Grade level | Number of hours (annual) | Total compensation per hour | Total annual cost
12 | 275 | $66.31 | $18,235
13 | 167 | 78.84 | 13,166
14 | 323 | 93.18 | 30,097
15 | 50 | 109.60 | 5,480
SES | 50 | 131.52 | 6,576
Total | 865 |  | 73,554.00

Manufacturer Comments: The Comments category includes reviewing and accepting or rejecting comments.

Table 6—Estimated Costs for Manufacturer Comments Task
Grade level | Number of hours (annual) | Total compensation per hour | Total annual cost
12 | 62 | $66.31 | $4,111
13 | 109 | 78.84 | 8,594
Total | 171 |  | 12,705

Small Batch Manufacturer Identification: The Small Batch Manufacturer Identification category includes time spent posting the list of small batch registrations, as well as answering companies' questions on registering as a Small Batch Manufacturer and the implications of small batch registration.

Table 7—Estimated Costs for Small Batch Task
Grade level | Number of hours (annual) | Total compensation per hour | Total annual cost
15 | 642 | $109.60 | $70,363
Total | 642 |  | 70,363

We estimate the annualized cost to the CPSC of $954,531, by adding the four categories of work related to the Database summarized in Tables 4 through 7 (Reports of Harm ($825,544) + MII Claims ($73,554) + Manufacturer Comments ($12,705) + Small Batch Identification ($70,363) = $982,166).

This information collection renewal request is based on an estimated 13,343 burden hours per year for the Database, which represents an increase of 983 hours since this collection of information was last approved by OMB in 2017. The increase in burden is due primarily to the increase in the number of incoming reports of harm, and the increase in the number of claims based on those reports. Comments have also increased significantly, but shifted to the more efficient, online submission. A slight increase in small batch manufacturer activity occurred, as well, which has been rising steadily for years.

D. Request for Comments

The CPSC solicits written comments from all interested persons about the proposed collection of information. The CPSC specifically solicits information relevant to the following topics:

• Whether the collection of information described above is necessary for the proper performance of the CPSC's functions, including whether the information would have practical utility.

• Whether the estimated burden of the proposed collection of information is accurate.

• Whether the quality, utility, and clarity of the information to be collected could be enhanced.

• Whether the burden imposed by the collection of information could be minimized by using automated, electronic, or other technological collection techniques, or other forms of information technology.

Alberta E. Mills,
Secretary, Consumer Product Safety Commission.

[FR Doc. 2019-21944 Filed 10-7-19; 8:45 am]

BILLING CODE 6355-01-P